DEPARTMENT OF AGRICULTURE

Office of the Secretary

7 CFR Part 2

[0503-AA53 ]

Amendments to Delegations of Authority

AGENCY: Office of the Secretary, USDA.

ACTION: Final rule.

SUMMARY: The Secretary of Agriculture is authorized to delegate functions, powers, and duties as the Secretary deems appropriate. This document amends the existing delegations of authority by removing, adding, and modifying certain delegations, as explained in the Supplementary Information section below. This document also amends our regulations to reflect the current order of succession for the Secretary of Agriculture.

DATES: Effective on July 9, 2013.

FOR FURTHER INFORMATION CONTACT: Adam J. Hermann, General Law and Research Division, Office of the General Counsel, 3311-S, USDA, 1400 Independence Ave. SW., Washington, DC 20250; Voice: (202) 720-9425; Email: adam.hermann@ogc.usda.gov.

SUPPLEMENTARY INFORMATION: This rulemaking makes a number of changes to the United States Department of Agriculture's (USDA) delegations of authority in 7 CFR part 2 by removing obsolete delegations, adding new delegations, and modifying existing delegations.

This rulemaking removes as obsolete the delegations of authority to the Under Secretaries for Farm and Foreign Agricultural Services in 7 CFR 2.16(a)(2)(viii) and Rural Development in 7 CFR 2.17(a)(17), and to the Administrators of the Farm Service Agency in 7 CFR 2.42(a)(35), Rural Utilities Service in 7 CFR 2.47(a)(9), Rural Business-Cooperative Service in 7 CFR 2.48(a)(15), and Rural Housing Service in 7 CFR 2.49(a)(7), regarding claims collection authority in light of the Department's debt management regulations in 7 CFR part 3. Under 7 CFR 3.4, the head of an agency (defined in 7 CFR 3.3 as “a subagency, office, or corporation within USDA subject to the authority and general supervision of the Secretary”) “is authorized to exercise any or all of the functions provided by this part with respect to programs for which the head of the agency has delegated responsibility, and may delegate and authorize the redelegation of any of the functions vested in the head of the agency by this part, except as otherwise provided by this part.”

This rulemaking also amends the delegations of authority to reflect that administrative supervision of the Office of Ethics has been transferred from the Office of Human Resources Management, Departmental Management, to the General Counsel. The delegations also reflect that the Director, Office of Ethics, is the USDA Designated Agency Ethics Official, and the Assistant Director, Office of Ethics, is the USDA Alternate Agency Ethics Official. This rulemaking also amends the delegations to the General Counsel in 7 CFR 2.31 by removing an obsolete authority regarding proceedings before the Interstate Commerce Commission, and by adding a new authority to assert in litigation the deliberative process privilege and other legally recognized privileges. As a result of a recent reorganization of the Office of the General Counsel, there is now both a Principal Deputy General Counsel and a Deputy General Counsel. The amendment to 7 CFR 2.200 reflects that the Principal Deputy General Counsel is the “first assistant” for purposes of the Federal Vacancies Reform Act of 1998, 5 U.S.C. 3345—3349d. The Principal Deputy General Counsel is delegated the authority to perform all duties and exercise all powers delegated to the General Counsel during the absence or unavailability of the General Counsel.

This rulemaking amends the delegations to the Chief Economist in 7 CFR 2.29, and adds a new § 2.74, to reflect the responsibilities of the Climate Change Program Office (CCPO) within the Office of the Chief Economist. CCPO, known as the Global Change Program Office until recently, has been responsible for carrying out these activities since the office was established pursuant to section 2402 of the Food, Agriculture, Conservation, and Trade Act of 1990 (7 U.S.C. 6701), but 7 CFR part 2 was never updated to reflect the authorities. This rulemaking also amends the delegations to the Chief Economist in 7 CFR 2.29, and adds a new § 2.75, to reflect the responsibilities of the Office of Environmental Markets (OEM) within the Office of the Chief Economist. OEM was established to assist in implementing section 1245 of the Food Security Act of 1985 (16 U.S.C. 3845), as added by section 2709 of the Food, Conservation, and Energy Act of 2008, Public Law 110-246. Section 1245 of the Food Security Act of 1985 directs the Secretary to establish various types of guidelines regarding the participation of farmers, ranchers, and forest landowners in environmental services markets. The amendments also add a new delegation from the Secretary to the Under Secretary for Natural Resources and Environment (NRE) in 7 CFR 2.20, and from the Under Secretary for NRE to the Chiefs of the Forest Service and the Natural Resources Conservation Service in 7 CFR 2.60 and 2.61, respectively, to conduct activities that assist the Office of the Chief Economist and OEM in establishing guidelines regarding the development of environmental services markets.

These amendments also make a technical change to the delegations of authority from the Secretary to the Chief Economist in 7 CFR 2.29 by moving the delegations of authority in §§ 2.29(a)(2)(iii) and (a)(11)(iii) (authority to enter into contracts, grants, or cooperative agreements to further research programs in the food and agricultural sciences) and § 2.29(a)(11)(iv) (authority to enter into cost-reimbursable agreements relating to agricultural research) to a new paragraph in § 2.29 to clarify that the delegated authorities are not limited to risk assessment or energy-related activities, respectively. The delegations of authority from the Chief Economist to the Director, Office of Risk Assessment and Cost-Benefit Analysis in 7 CFR 2.71 are amended by removing as unnecessary the delegation of authority to enter into contracts, grants, or cooperative agreements to further research programs in the food and agricultural sciences because any such agreements would be signed by the Chief Economist.

This rulemaking also amends the delegations of authority to the Assistant Secretary for Administration (ASA) in 7 CFR 2.24 and the delegations of authority to certain officials within USDA's Departmental Management organization that report to the ASA (Chief Information Officer (7 CFR 2.89), Chief Financial Officer (7 CFR 2.90), Director, Office of Human Resources Management (7 CFR 2.91), Director, Office of Procurement and Property Management (7 CFR 2.93), and Director, Office of Operations (7 CFR 2.96), to reflect the abolishment of the Management Services office and to modify and realign Management Services functions to other Departmental Management offices in order to streamline operations and reduce costs. Accordingly, the delegations from the ASA to the Director, Management Services in 7 CFR 2.98 are removed. Additionally, the delegations to the ASA and Chief Information Officer regarding management of enterprise data centers and end user office automation services are revised to reflect the authority to perform such services as a Working Capital Fund activity. Also, a new delegation is added to the Chief Financial Officer, through the ASA, to redelegate authorities, as appropriate, to general officers of the Department and heads of Departmental agencies.

This rulemaking amends the delegations of authority to the ASA in 7 CFR 2.24 to reflect that the ASA is the designated Chief Acquisition Officer for the Department. It also amends the delegations of authority to the ASA and to the Director, Office of Advocacy and Outreach in 7 CFR 2.94 to clarify that administration of the Hispanic Serving Institutions National Program includes the authority to enter into cooperative agreements pursuant to section 1472(b) of the National Agricultural Research, Extension, and Teaching Policy Act of 1977 (7 U.S.C. 3318(b)). Additionally, this rulemaking amends the delegations of authority to the ASA and to the Director of the Office of Human Resources Management in 7 CFR 2.91 by removing the delegations relating to conflict management and Alternative Dispute Resolution (ADR) and transferring them to the Assistant Secretary for Civil Rights (ASCR) in 7 CFR 2.25. This amendment consolidates ADR authorities in one place, but the ASCR retains the authority in 7 CFR 2.25(a)(23) to re-delegate these responsibilities to other general officers or agency heads as the ASCR deems appropriate.

This rulemaking also amends 7 CFR 2.25 to reflect the authority of the Assistant Secretary for Civil Rights to prepare, submit, and make publicly available the civil rights report required by section 14010 of the Food, Conservation, and Energy Act of 2008 (7 U.S.C. 2279-2).

Finally, this rulemaking amends 7 CFR 2.5 to reflect the current order of succession for the Secretary of Agriculture as established by Executive Order 13612, May 21, 2012.

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, 5 U.S.C. 601 et seq., and the Small Business Regulatory Fairness Enforcement Act, 5 U.S.C. 801 et seq., and thus is exempt from the provisions of those Acts. This rule contains no information collection or recordkeeping requirements under the Paperwork Reduction Act of 1995 (44 U.S.C. 3501 et seq.).

List of Subjects in 7 CFR Part 2

Authority delegations (Government agencies).

Accordingly, 7 CFR part 2 is amended as follows:

PART 2—DELEGATIONS OF AUTHORITY BY THE SECRETARY OF AGRICULTURE AND GENERAL OFFICERS OF THE DEPARTMENT

1. The authority citation for part 2 is revised to read as follows:

Authority: 7 U.S.C. 6912(a)(1); 5 U.S.C. 301; Reorganization Plan No. 2 of 1953, 3 CFR 1949-1953 Comp., p. 1024.

Subpart A—General

2. Revise § 2.5 to read as follows:

§ 2.5 Order in which officers of the Department shall act as Secretary.

(a) Pursuant to Executive Order 13612, “Providing an Order of Succession Within the Department of Agriculture” (77 FR 31153, May 24, 2012), during any period in which both the Secretary and the Deputy Secretary have died, resigned, or are otherwise unable to perform the functions and duties of the office of Secretary, the following officials designated in paragraphs (a)(1) through (a)(15) of this section shall act as Secretary, in the order in which they are listed. Each official shall act only in the event of the death, resignation, or inability to perform the functions and duties of Secretary of the immediately preceding official:

(1) Under Secretary of Agriculture for Farm and Foreign Agricultural Services.

(2) Under Secretary of Agriculture for Food, Nutrition, and Consumer Services.

(3) Assistant Secretary of Agriculture for Administration.

(4) Under Secretary of Agriculture for Research, Education, and Economics.

(5) Under Secretary of Agriculture for Food Safety.

(6) Under Secretary of Agriculture for Natural Resources and Environment.

(7) Under Secretary of Agriculture for Rural Development.

(8) Under Secretary of Agriculture for Marketing and Regulatory Programs.

(9) General Counsel of the Department of Agriculture.

(10) Chief of Staff, Office of the Secretary.

(11) State Executive Directors of the Farm Service Agency for the States of California, Iowa, and Kansas, in order of seniority fixed by length of unbroken service as State Executive Director of that State.

(12) Regional Administrators of the Food and Nutrition Service for the Mountain Plains Regional Office (Denver, Colorado), Midwest Regional Office (Chicago, Illinois), and Western Regional Office (San Francisco, California), in order of seniority fixed by length of unbroken service as Regional Administrator of that Regional Office.

(13) Chief Financial Officer of the Department of Agriculture.

(14) Assistant Secretary of Agriculture (Civil Rights).

(15) Assistant Secretary of Agriculture (Congressional Relations).

(b) If any two or more individuals designated in paragraphs (a)(11) or (a)(12) of this section were sworn in to, or commenced service in, their respective offices on the same day, precedence shall be determined by the alphabetical order of the State in which the individual serves.

(c) No individual who is serving in an office listed in paragraphs (a)(1) through (a)(15) of this section shall, by virtue of so serving, act as Secretary pursuant to this section.

(d) No individual who is serving in an office listed in paragraphs (a)(1) through (a)(15) of this section shall act as Secretary unless that individual is otherwise eligible to so serve under the Federal Vacancies Reform Act of 1998 (5 U.S.C. 3345, et seq.).

(e) Notwithstanding the provisions of this section and Executive Order 13612, the President retains discretion, to the extent permitted by law, to depart from the order of succession in paragraph (a) of this section in designating an acting Secretary.

Subpart C—Delegations of Authority to the Deputy Secretary, Under Secretaries, and Assistant Secretaries

§ 2.16 [Amended]

3. Amend § 2.16 by removing and reserving paragraph (a)(2)(viii).

§ 2.17 [Amended]

4. Amend § 2.17 by removing and reserving paragraph (a)(17).

5. Amend § 2.20 by adding new paragraphs (a)(2)(xlv) and (a)(3)(xxiv), to read as follows:

§ 2.20 Under Secretary for Natural Resources and Environment.

(a) * * *

(2) * * *

(xlv) Conduct activities that assist the Chief Economist in developing guidelines regarding the development of environmental services markets.

(3) * * *

(xxiv) Conduct activities that assist the Chief Economist in developing guidelines regarding the development of environmental services markets.

* * * * *

6. Amend § 2.24 as follows:

a. Revise paragraphs (a)(2)(xi)(C), (a)(2)(xi)(D), (a)(3)(xxv), (a)(4)(xx), and (a)(7)(xiv);

b. Remove paragraph (a)(4)(xxii);

c. Remove and reserve paragraph (a)(11);

d. Add and reserve new paragraphs (a)(3)(xxix) and (a)(6)(xix); and

e. Add new paragraphs (a)(3)(xxx), (a)(6)(iii)(I), (a)(6)(xx), (a)(9)(vi), (a)(9)(vii), and (a)(9)(viii), to read as follows:

§ 2.24 Assistant Secretary for Administration.

(a) * * *

(2) * * *

(xi) * * *

(C) Manage the Enterprise Data Centers, including setting rates to recover the cost of goods and services within approved policy and funding levels; and oversee the delivery of Enterprise Data Center goods and services, with authority to take actions required by law or regulation to perform such services as a Working Capital Fund activity.

(D) Manage a comprehensive set of end user office automation services, including setting rates to recover the cost of goods and services within approved policy and funding levels; and oversee the delivery of goods and services associated with end user office automation services, including desktop computers, enterprise networking support, handheld devices, and voice telecommunications, with authority to take actions required by law or regulation to perform such services as a Working Capital Fund activity.

* * * * *

(3) * * *

(xxv) Provide budget, accounting, fiscal, and related financial management services, with authority to take action required by law or regulation to provide such services for:

(A) The Secretary of Agriculture.

(B) The general officers of the Department, except the Inspector General.

(C) The offices and agencies reporting to the Assistant Secretary for Administration.

(D) Any other offices or agencies of the Department as may be agreed.

* * * * *

(xxix) [Reserved]

(xxx) Redelegate, as appropriate, any authority delegated under paragraph (a)(3) to general officers of the Department and heads of Departmental agencies.

(4) * * *

(xx) Provide human resources operational services for the following:

(A) The Secretary of Agriculture.

(B) The general officers of the Department.

(C) The offices and agencies reporting to the Assistant Secretary for Administration.

(D) The Office of the Assistant Secretary for Civil Rights.

(E) Any other offices or agencies of the Department as may be agreed.

* * * * *

(xxii) [Removed]

* * * * *

(6) * * *

(iii) * * *

(I) Serve as the designated Chief Acquisition Officer for the Department pursuant to section 1702 of title 41, United States Code.

* * * * *

(xix) [Reserved]

(xx) Provide services, including procurement of supplies, services, and equipment, with authority to take actions required by law or regulation to perform such services for:

(A) The Secretary of Agriculture.

(B) The general officers of the Department, except the Inspector General.

(C) Any other offices or agencies of the Department as may be agreed, including as a Working Capital Fund activity.

(7) * * *

(xiv) Administer the Hispanic Serving Institutions National Program, including through the use of cooperative agreements under 7 U.S.C. 3318(b).

* * * * *

(9) * * *

(vi) Provide services, including travel support, conference management, and general administrative support including coordination of office renovations and moves (within USDA Whitten Building), with authority to take actions required by law or regulation to perform such services for:

(A) The Secretary of Agriculture.

(B) The general officers of the Department, except the Inspector General.

(C) The offices and agencies reporting to the Assistant Secretary for Administration.

(D) The Office of the Assistant Secretary for Civil Rights.

(E) Any other offices or agencies of the Department as may be agreed.

(vii) Prepare responses to requests under the Freedom of Information Act with authority to take actions as required by law or regulation for the office and agencies reporting to the Assistant Secretary for Administration.

(viii) Administer the records management program in support of Departmental Management, and prepare and coordinate responses to management audits by the Inspector General and the Government Accountability Office, with authority to take actions as required by law or regulation for the offices and agencies reporting to the Assistant Secretary for Administration.

* * * * *

(11) [Reserved]

* * * * *

7. Amend § 2.25 as follows:

a. Revise paragraph (a)(21);

b. Redesignate paragraph (a)(22) as paragraph (a)(23); and

c. Add a new paragraph (a)(22).

The revision and addition read as follows:

§ 2.25 Assistant Secretary for Civil Rights.

(a) * * *

(21) Related to Alternative Dispute Resolution.

(i) Designate the senior official to serve as the Department Dispute Resolution Specialist pursuant to section 3 of the Administrative Dispute Resolution Act, Public Law 101-552, as amended (5 U.S.C. 571 note), and provide leadership, direction, and coordination for the Department's conflict prevention and resolution activities.

(ii) Issue Departmental regulations, policies, and procedures relating to the use of Alternative Dispute Resolution (ADR) to resolve employment complaints and grievances, workplace disputes, program complaints alleging civil rights violations, and contract and procurement disputes.

(iii) Provide ADR services for:

(A) The Secretary of Agriculture.

(B) The general officers of the Department.

(C) The offices and agencies reporting to the Assistant Secretary for Administration.

(D) Any other office or agency of the Department as may be agreed.

(iv) Develop and issue standards for mediators and other ADR neutrals utilized by the Department.

(v) Coordinate ADR activities throughout the Department.

(vi) Monitor agency ADR programs and report at least annually to the Secretary on the Department's ADR activities.

(22) Prepare, submit, and make publicly available the civil rights report required by section 14010 of the Food, Conservation, and Energy Act of 2008 (7 U.S.C. 2279-2).

* * * * *

Subpart D—Delegations of Authority to Other General Officers and Agency Heads

8. Amend § 2.29 as follows:

a. Remove paragraph (a)(2)(iii);

b. Remove and reserve paragraphs (a)(11)(iii) and (a)(11)(iv); and

c. Add new paragraphs (a)(12) through (a)(14) to read as follows:

§ 2.29 Chief Economist.

(a) * * *

(12) Related to climate change.

(i) Coordinate policy analysis, long-range planning, research, and response strategies relating to climate change issues.

(ii) Provide liaison with other Federal agencies, through the Office of Science and Technology Policy, regarding climate change issues.

(iii) Inform the Department of scientific developments and policy issues relating to the effects of climate change on agriculture and forestry, including broader issues that affect the impact of climate change on the farms and forests of the United States.

(iv) Recommend to the Secretary alternative courses of action with which to respond to such scientific developments and policy issues.

(v) Ensure that recognition of the potential for climate change is fully integrated into the research, planning, and decisionmaking processes of the Department.

(vi) Coordinate global climate change studies.

(vii) Coordinate the participation of the Department in interagency climate-related activities.

(viii) Consult with the National Academy of Sciences and private, academic, State, and local groups with respect to climate research and related activities.

(ix) Represent the Department to the Office of Science and Technology Policy on issues related to climate change.

(x) Represent the Department on the Intergovernmental Panel on Climate Change.

(xi) Review all Department budget items relating to climate change issues, including specifically the research budget to be submitted by the Secretary to the Office of Management and Budget.

(13) Related to environment.

(i) Coordinate implementation of section 1245 of the Food Security Act of 1985 regarding environmental services markets (16 U.S.C. 3845).

(ii) [Reserved]

(14) Related to agreements.

(i) Enter into contracts, grants, or cooperative agreements to further research programs in the food and agricultural sciences (7 U.S.C. 3318).

(ii) Enter into cost-reimbursable agreements relating to agricultural research (7 U.S.C. 3319a).

9. Amend § 2.31 as follows:

a. Redesignate paragraphs (a) through (p) as paragraphs (a)(1) through (a)(16);

b. Redesignate the introductory text as paragraph (a) and revise the newly redesignted text;

c. Remove and reserve newly redsignated paragraph (a)(8);

d. Redesignate newly redesignated paragraphs (a)(12)(1) through (a)(12)(5) as paragraphs (a)(12)(i) through (v); and

e. Add new paragraphs (a)(17) and (b).

The revision and additions read as follows:

§ 2.31 General Counsel.

(a) Related to legal services. The General Counsel, as the chief law officer of the Department, is legal advisor to the Secretary and other officials of the Department and responsible for providing legal services for all the activities of the Department. The delegations of authority by the Secretary of Agriculture to the General Counsel include the following:

* * * * *

(17) On a non-exclusive basis, assert in litigation the deliberative process privilege and other legally recognized privileges.

(b) Related to ethics. The following delegation of authority is made by the Secretary to the General Counsel: Provide administrative supervision for the Office of Ethics.

Subpart F—Delegations of Authority by the Under Secretary for Farm and Foreign Agricultural Services

§ 2.42 [Amended]

10. Amend § 2.42 by removing and reserving paragraph (a)(35).

Subpart G—Delegations of Authority by the Under Secretary for Rural Development

§ 2.47 [Amended]

11. Amend § 2.47 by removing and reserving paragraph (a)(9).

§ 2.48 [Amended]

12. Amend § 2.48 by removing and reserving paragraph (a)(15).

§ 2.49 [Amended]

13. Amend § 2.49 by removing and reserving paragraph (a)(7).

Subpart J—Delegations of Authority by the Under Secretary for Natural Resources and Environment

14. Amend § 2.60 by adding new paragraph (a)(54), to read as follows:

§ 2.60 Chief, Forest Service.

(a) * * *

(54) Conduct activities that assist the Director, Office of Environmental Markets, in developing guidelines regarding the development of environmental services markets.

* * * * *

15. Amend § 2.61 by adding new paragraph (a)(29), to read as follows:

§ 2.61 Chief, Natural Resources Conservation Service.

(a) * * *

(29) Conduct activities that assist the Director, Office of Environmental Markets, in developing guidelines regarding the development of environmental services markets.

* * * * *

Subpart L—Delegations of Authority by the Chief Economist

§ 2.71 [Amended]

16. Amend § 2.71 by removing paragraph (a)(3).

17. Amend subpart L by adding new sections §§ 2.74 and 2.75 to read as follows:

§ 2.74 Director, Climate Change Program Office.

(a) Delegations. Pursuant to § 2.29(a)(12), the following delegations of authority are made by the Chief Economist to the Director, Climate Change Program Office:

(1) Coordinate policy analysis, long-range planning, research, and response strategies relating to climate change issues.

(2) Provide liaison with other Federal agencies, through the Office of Science and Technology Policy, regarding climate change issues.

(3) Inform the Department of scientific developments and policy issues relating to the effects of climate change on agriculture and forestry, including broader issues that affect the impact of climate change on the farms and forests of the United States.

(4) Recommend to the Chief Economist alternative courses of action with which to respond to such scientific developments and policy issues.

(5) Ensure that recognition of the potential for climate change is fully integrated into the research, planning, and decisionmaking processes of the Department.

(6) Coordinate global climate change studies.

(7) Coordinate the participation of the Department in interagency climate-related activities.

(8) Consult with the National Academy of Sciences and private, academic, State, and local groups with respect to climate research and related activities.

(9) Represent the Department to the Office of Science and Technology Policy on issues related to climate change.

(10) Represent the Department on the Intergovernmental Panel on Climate Change.

(11) Review all Department budget items relating to climate change issues, including specifically the research budget to be submitted by the Secretary to the Office of Management and Budget.

(b) [Reserved]

§ 2.75 Director, Office of Environmental Markets.

(a) Delegations. Pursuant to § 2.29(a)(13), the following delegations of authority are made by the Chief Economist to the Director, Office of Environmental Markets:

(1) Coordinate implementation of section 1245 of the Food Security Act of 1985 regarding environmental services markets (16 U.S.C. 3845).

(2) [Reserved]

(b) [Reserved]

Subpart P—Delegations of Authority by the Assistant Secretary for Administration

18. Amend § 2.89 by revising paragraphs (a)(11)(iii) and (a)(11)(iv), to read as follows:

§ 2.89 Chief Information Officer.

(a) * * *

(11) * * *

(iii) Manage the Enterprise Data Centers, with the exception of the National Finance Center; and oversee the delivery of Enterprise Data Center goods and services, with authority to take actions required by law or regulation to perform such services as a Working Capital Fund activity.

(iv) Manage a comprehensive set of end user office automation services and oversee the delivery of goods and services associated with end user office automation services, including desktop computers, enterprise networking support, handheld devices, and voice telecommunications, with authority to take actions required by law or regulation to perform such services as a Working Capital Fund activity.

* * * * *

19. Amend § 2.90 as follows:

a. Revise paragraph (a)(25); and

b. Add a new paragraph (a)(30), to read as follows:

§ 2.90 Chief Financial Officer.

(a) * * *

(25) Provide budget, accounting, fiscal, and related financial management services, with authority to take action required by law or regulation to provide such services for:

(i) The Secretary of Agriculture.

(ii) The general officers of the Department, except the Inspector General.

(iii) The offices and agencies reporting to the Assistant Secretary for Administration.

(iv) Any other offices or agencies of the Department as may be agreed.

* * * * *

(30) Redelegate, as appropriate, any authority delegated under this section to general officers of the Department and heads of Departmental agencies.

20. Amend § 2.91 as follows:

a. Revise paragraph (a)(20) to read as set forth below; and

b. Remove paragraph (a)(22).

§ 2.91 Director, Office of Human Resources Management.

(a) * * *

(20) Provide human resources operational services for the following:

(i) The Secretary of Agriculture.

(ii) The general officers of the Department.

(iii) The offices and agencies reporting to the Assistant Secretary for Administration.

(iv) The Office of the Assistant Secretary for Civil Rights.

(v) Any other offices or agencies of the Department as may be agreed.

* * * * *

21. Amend § 2.93 by adding a new paragraph (a)(20) to read as follows:

§ 2.93 Director, Office of Procurement and Property Management.

(a) * * *

(20) Provide services, including procurement of supplies, services, and equipment, with authority to take actions required by law or regulation to perform such services for:

(i) The Secretary of Agriculture.

(ii) The general officers of the Department, except the Inspector General.

(iii) Any other offices or agencies of the Department as may be agreed, including as a Working Capital Fund activity.

* * * * *

22. Amend § 2.94 by revising paragraph (a)(14) to read as follows:

§ 2.94 Director, Office of Advocacy and Outreach.

(a) * * *

(14) Administer the Hispanic Serving Institutions National Program, including through the use of cooperative agreements under 7 U.S.C. 3318(b).

23. Amend § 2.96 by adding new paragraphs (a)(6), (a)(7), and (a)(8) to read as follows:

§ 2.96 Director, Office of Operations.

(a) * * *

(6) Provide services, including travel support, conference management, and general administrative support including coordination of office renovations and moves (within USDA Whitten Building), with authority to take actions required by law or regulation to perform such services for:

(i) The Secretary of Agriculture.

(ii) The general officers of the Department, except the Inspector General.

(iii) The offices and agencies reporting to the Assistant Secretary for Administration.

(iv) The Office of the Assistant Secretary for Civil Rights.

(v) Any other offices or agencies of the Department as may be agreed.

(7) Prepare responses to requests under the Freedom of Information Act with authority to take actions as required by law or regulation for the office and agencies reporting to the Assistant Secretary for Administration.

(8) Administer the records management program in support of Departmental Management, and prepare and coordinate responses to management audits by the Inspector General and the Government Accountability Office, with authority to take actions as required by law or regulation for the offices and agencies reporting to the Assistant Secretary for Administration.

* * * * *

§ 2.98 [Removed]

24. Remove § 2.98.

Subpart Q—Delegations of Authority by the General Counsel

25. Revise § 2.200 to read as follows:

§ 2.200 Principal Deputy General Counsel.

Pursuant to § 2.31, the following delegation of authority is made by the General Counsel to the Principal Deputy General Counsel, to be exercised only during the absence or unavailability of the General Counsel: Perform all duties and exercise all powers that are now or which may hereafter be delegated to the General Counsel.

26. Amend subpart Q by adding new §§ 2.201 and 2.202 to read as follows:

§ 2.201 Director, Office of Ethics.

Pursuant to the Office of Government Ethics regulations at 5 CFR part 2638, the Director, Office of Ethics, shall be the USDA Designated Agency Ethics Official with the authority to coordinate and manage the Department's ethics program as provided in part 2638.

§ 2.202 Deputy Director, Office of Ethics.

Pursuant to the Office of Government Ethics regulations at 5 CFR part 2638, the Deputy Director, Office of Ethics, shall be the USDA Alternate Agency Ethics Official and shall exercise the authority reserved to the USDA Designated Agency Ethics Official as provided in part 2638 in the absence or unavailability of the USDA Designated Agency Ethics Official.

Done at Washington, DC, this 25th day of June, 2013.
Thomas J. Vilsack,
Secretary of Agriculture.

[FR Doc. 2013-15849 Filed 7-8-13; 8:45 am]

BILLING CODE 3410-90-P